CORPORATION FOR NATIONAL AND COMMUNITY SERVICE

Notice of Change in Application Deadline for Digital Divide Notice of Funding Availability

AGENCY: Corporation for National and Community Service.

ACTION: Notice of change in application deadline.

SUMMARY: The Corporation for National and Community Service has extended the deadline for applications under our notice of availability of funds published in the Federal Register on April 28, 2000 (65 FR 24920). The funds will support grants under the AmeriCorps*State Competitive, AmeriCorps*National, and Learn and Serve America K-12 School-based programs, to eligible organizations to help overcome the digital divide. The new deadline for applications is July 25, 2000. In addition, if you intend to submit an application, please send us a notice of intent by June 26, 2000. A notice of intent to submit is not required, but is helpful to us for planning purposes.

FOR FURTHER INFORMATION CONTACT: For further information, or to obtain an application, contact Maria Diaz at (202) 606-5000, ext. 372.

Dated: May 8, 2000.
Gary Kowalczyk,
Coordinator, National Service Programs, Corporation for National and Community Service.

[FR Doc. 00-11962 Filed 5-11-00; 8:45 am]

BILLING CODE 6050-28-P